NUCLEAR REGULATORY COMMISSION

[NRC-2018-0138]

Information Collection: Request for Information Regarding Recommendations 2.1, 2.3 and 9.3, of the Near Term Task Force Review of Insights From the Fukushima Dai-ichi Event

AGENCY: Nuclear Regulatory Commission.

ACTION: Notice of submission to the Office of Management and Budget; request for comment.

SUMMARY: The U.S. Nuclear Regulatory Commission (NRC) invites public comment on the renewal of Office of Management and Budget (OMB) approval for an existing collection of information. The information collection is entitled, “Request for Information Pursuant to 10 CFR 50.54(f) Regarding Recommendations 2.1, 2.3 and 9.3, of the Near Term Task Force Review of Insights from the Fukushima Dai-ichi Event.”

DATES: Submit comments by May 1, 2019.

ADDRESSES: Submit comments directly to the OMB reviewer at: OMB Office of Information and Regulatory Affairs (3150-0211), Attn: Desk Officer for the Nuclear Regulatory Commission, 725 17th Street NW, Washington, DC 20503; email: oira_submission@omb.eop.gov.

FOR FURTHER INFORMATION CONTACT: David Cullison, NRC Clearance Officer, U.S. Nuclear Regulatory Commission, Washington, DC 20555-0001; telephone: 301-415-2084; Email: INFOCOLLECTS.Resource@nrc.gov.

SUPPLEMENTARY INFORMATION:

I. Obtaining Information and Submitting Comments

A. Obtaining Information

Please refer to Docket ID NRC-2018-0138 when contacting the NRC about the availability of information for this action. You may obtain publicly-available information related to this action by any of the following methods:

• Federal Rulemaking website: Go to http://www.regulations.gov and search for Docket ID NRC-2018-0138. A copy of the collection of information and related instructions may be obtained without charge by accessing Docket ID NRC-2018-0138 on this website.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML12053A340. The supporting statement and burden spreadsheet are available in ADAMS under Accession Nos. ML19010A177 and ML18254A274.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “Request for Information Pursuant to 10 CFR 50.54(f) Regarding Recommendations 2.1, 2.3 and 9.3, of the Near Term Task Force Review of Insights from the Fukushima Dai-ichi event.” The NRC hereby informs potential respondents that an agency may not conduct or sponsor, and that a person is not required to respond to, a collection of information unless it displays a currently valid OMB control number.

The NRC published a Federal Register notice with a 60-day comment period on this information collection on December 11, 2018 (83 FR 63687).

1. The title of the information collection: Request for Information Pursuant to 10 CFR 50.54(f) Regarding Recommendations 2.1, 2.3 and 9.3, of the Near Term Task Force Review of Insights from the Fukushima Dai-ichi event.

2. OMB approval number: 3150-0211.

3. Type of submission: Extension.

4. The form number if applicable: Not applicable.

5. How often the collection is required or requested: Once.

6. Who will be required or asked to respond: 12 power reactor licensees.

7. The estimated number of annual responses: 4 (12 power reactors will each respond once over the course of the three-year clearance period).

8. The estimated number of annual respondents: 4 (12 power reactors will each respond once over the course of the three-year clearance period).

9. An estimate of the total number of hours needed annually to comply with the information collection requirement or request: 11,000 hours.

10. Abstract: Following events at the Fukushima Dai-ichi nuclear power plant resulting from the March 11, 2011, earthquake and subsequent tsunami, and in response to requirements contained in section 402 of the Consolidated Appropriations Act (Pub. L. 112-074), the NRC requested information from power reactor licensees pursuant to title 10 of the Code of Federal Regulations part 50.54(f). The information requested includes seismic risk assessments. The NRC will use the information provided by licensees to determine if additional regulatory action is necessary. Licensees will have already completed submittals in response to this 50.54(f) request for seismic and flooding walkdown reports, seismic hazard reevaluations, seismic risk assessment, seismic high and low frequency confirmations, seismic spent fuel pool evaluations, flooding hazard reevaluations, flooding integrated assessments, focused evaluations of local intense precipitation and available physical margin, communications analyses, and initial and final staffing analyses.

Dated at Rockville, Maryland, on March 26, 2019.
For the Nuclear Regulatory Commission.
David C. Cullison,
NRC Clearance Officer, Office of the Chief Information Officer.

[FR Doc. 2019-06157 Filed 3-29-19; 8:45 am]

BILLING CODE 7590-01-P